DEPARTMENT OF THE INTERIOR

Bureau of Land Management

[LLORV00000-L10200000.DD0000]

Notice of Reestablishment of the National Historic Oregon Trail Interpretive Center Advisory Board

AGENCY: Bureau of Land Management, Interior.

ACTION: Notice.

SUMMARY: This notice is published in accordance with Section 9(a)(2) of the Federal Advisory Committee Act of 1972. Notice is hereby given that the Secretary of the Interior has reestablished the Bureau of Land Management's (BLM) National Historic Oregon Trail Interpretive Center Advisory Board.

FOR FURTHER INFORMATION CONTACT: Allison Sandoval, Legislative Affairs and Correspondence (620), BLM, 1620 L Street, NW., MS-LS-401, Washington, DC 20036, telephone (202) 912-7434.

SUPPLEMENTARY INFORMATION: The purpose of the Advisory Board is to advise the BLM's Vale District Manager regarding policies, programs, and long-range planning for the management, use, and further development of the Interpretive Center, including establishing a framework for an enhanced partnership and participation between the BLM and the Oregon Trail Preservation Trust, ensuring a financially secure, world-class historical and educational facility, operating a partnership between the Federal Government and the community that enriches and maximizes visitors' experiences in the region, and improving the coordination of advice and recommendations from the publics served.

Certification Statement: I hereby certify that the reestablishment of the National Historic Oregon Trail Interpretive Center Advisory Board is necessary and in the public interest in connection with the Secretary of the Interior's responsibilities to manage the lands, resources, and facilities administered by the Bureau of Land Management.

Ken Salazar,
Secretary of the Interior.

[FR Doc. 2010-1509 Filed 1-25-10; 8:45 am]

BILLING CODE 4310-33-P